DEPARTMENT OF COMMERCE

National Oceanic and Atmospheric Administration

RIN 0648-XC331

Fisheries of the Caribbean, Gulf of Mexico, and South Atlantic; Spiny Lobster Fishery of Puerto Rico and the U.S. Virgin Islands; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Dr. David Olsen (St. Thomas Fisherman's Association). If granted, the EFP would authorize contracted commercial fishermen to temporarily possess undersized and berried Caribbean spiny lobster for non-lethal sampling (tagging) during the course of their normal fishing activities. This non-lethal sampling would include implanting a tag on each spiny lobster before releasing the lobster with minimal harm. Data will be collected and analyzed to determine spiny lobster growth and movement patterns, and an attempt will be made to estimate the spiny lobster population size in the U.S. Virgin Islands. Currently, data on U.S. Caribbean spiny lobster life history are limited, particularly growth rates and abundance patterns. Additional life history information would provide the Caribbean Fishery Management Council (Council) and NMFS valuable data that may be used for future management of spiny lobster. The EFP would also seek to temporarily retain a sample number of spiny lobsters at a designated facility for a study to assess tag mortality and retention.

DATES: Comments must be received no later than 5 p.m., eastern time, on January 28, 2013.

ADDRESSES: You may submit comments on the application by any of the following methods:

• Email: Britni.Tokotch@noaa.gov. Include in the subject line of the email comment the following document identifier: “Olsen EFP 2012”.

• Mail: Britni Tokotch, Southeast Regional Office, NMFS, 263 13th Avenue South, St. Petersburg, FL 33701.

The application and related documents are available for review upon written request to any of the above addresses.

FOR FURTHER INFORMATION CONTACT: Britni Tokotch, 727-824-5305; email: Britni.Tokotch@noaa.gov.

SUPPLEMENTARY INFORMATION: The EFP is requested under the authority of the Magnuson-Stevens Fishery Conservation and Management Act (16 U.S.C. 1801 et seq.), and regulations at 50 CFR 600.745(b) concerning exempted fishing.

The described research is part of a life history study of Caribbean spiny lobster and intends to collect data on growth and movement patterns and to estimate the spiny lobster population abundance in the Federal waters of the Caribbean. The study also intends to conduct research on tag mortality and retention on spiny lobsters. Lobsters will be collected using commercial fishing vessels as part of the vessels normal fishing trips in the Federal waters of St. Croix and St. Thomas, U.S. Virgin Islands. Spiny lobsters would be collected within the 100-fathom (183-m) depth contour of these areas using commercial lobster trap gear. The study would take place from the date of effectiveness of the EFP through August 31, 2013, or until the requested number of lobsters have been tagged.

The proposed collection for scientific research involves activities that would otherwise be prohibited by regulations at 50 CFR part 622, as they pertain to Caribbean spiny lobster managed by the Council. The EFP would exempt this research activity from Federal regulations at § 622.32(b)(1)(iii) (Prohibited and limited harvest species) and § 622.37(b) (Size limits).

If granted, the EFP would authorize the tagging of 5,000 spiny lobsters (3,000 from St. Thomas Federal waters and 2,000 from St. Croix Federal waters). Floy spaghetti tags would be attached to the lobster in the gap between the tail and carapace. Tagging would include both legal size lobsters as well as undersized and egg-bearing lobsters. Data to be recorded during the tagging process will include carapace length, sex, reproductive state, and the vessel's position. Specimens to be tagged will be randomly selected from a designated vessel's lobster trap during normal fishing trips. A total of 15 commercial vessels will be allowed to participate in the study. The 15 vessels would be contracted through the St. Thomas Fisherman's Association, which obtained funding for this study through the Council. All vessels participating in the EFP have home ports in the U.S. Virgin Islands.

Following tagging, lobsters will be released where they were collected. When these tagged lobsters are recaptured, the same data would be collected that were recorded during initial tagging operations. Tagged lobsters may be recaptured by both commercial and recreational fishers from St. Thomas and St. Croix during their normal fishing practices. Posters have been distributed in local dive shops and marinas to alert fishers and the public to the tagging program and to encourage their participation in collecting and submitting data on recaptured tagged lobsters.

Tag and recapture data will be analyzed for growth and movement patterns, and an attempt will be made to estimate Caribbean spiny lobster population abundance. During recapture, local fishers would only be allowed to retain lobsters of legal size that were not egg-bearing. Undersized and egg-bearing lobsters would be returned to the water with a minimum of harm.

This EFP, if granted, would also authorize the collection of an additional 20 undersized lobsters to serve as a control study to the commercial vessels tagging efforts. The undersized lobsters, less than 3.5 inch (8.9 cm) carapace length, would be tagged and held in captivity at the Coral World facility on St. Thomas for up to 3 months. Undersized lobsters would be used for this study to increase the likelihood for tagged individuals to molt, thereby increasing the opportunity to assess the tag's performance. These lobsters would be temporarily retained at the facility to assess tag mortality and the retention of tags through the molting process. At the conclusion of the 3-month study, these lobsters would be released back into the water in the vicinity from which they were collected.

NMFS finds this application warrants further consideration. Possible conditions the agency may impose on this permit, if it is indeed granted, include but are not limited to, a prohibition of conducting research within marine protected areas, marine sanctuaries, or special management zones, without additional authorization. A report on the research would be due at the end of the collection period, to be submitted to NMFS and reviewed by the councils.

A final decision on issuance of the EFP will depend on NMFS' review of public comments received on the application, consultations with appropriate fishery management agencies of the affected states, the Council, and the U.S. Coast Guard, as well as a determination that it is consistent with all applicable laws.

Authority: 16 U.S.C. 1801 et seq.

Dated: December 21, 2012.
Emily H. Menashes,
Deputy Director, Office of Sustainable Fisheries, National Marine Fisheries Service.

[FR Doc. 2012-31324 Filed 12-27-12; 8:45 am]

BILLING CODE 3510-22-P